DEPARTMENT OF LABOR

Office of the Secretary

[Secretary's Order 07-2005]

Delegation of Authority Under the Federal Tort Claims Act and Related Statutes

1. Purpose. To delegate to the Solicitor of Labor the authority conferred on the Secretary of Labor under (a) the Federal Tort Claims Act, (b) section 157(b) of the Workforce Investment Act of 1998, and (c) the Military Personnel and Civilian Employees' Claims Act of 1964.

2. Directives Affected. Secretary's Order 24-76 is hereby cancelled.

3. Background.

A. The Federal Tort Claims Act (FTCA), 28 U.S.C. 2672, generally makes the Government liable for property damage and personal injuries caused by the negligent or wrongful act or omission of any Government employee while performing official duties. Federal agency heads, including the Secretary of Labor, are authorized by the FTCA to award, compromise, or settle claims not in excess of $25,000. Subject to the provisions of the FTCA relating to civil actions or tort claims, any such award or determination is final and conclusive on all officers of the Government, except when procured by means of fraud.

B. Section 157(b) of the Workforce Investment Act of 1998, 29 U.S.C. 2897(b), grants the Secretary of Labor discretionary authority to settle claims for personal injury or property damage which arise out of the operation of the Job Corps but are not cognizable under the Federal Tort Claims Act. The maximum payable for each claim may not exceed $1,500.

C. The Military Personnel and Civilian Employees' Claims Act of 1964, 31 U.S.C. 3721, authorizes the head of an executive agency, such as the Secretary of Labor, to settle and pay claims made by an officer or employee of that agency for damage to, or loss of, personal property incident to Government service. The maximum amount allowable on any claim is $40,000 unless the claim arose from an emergency evacuation or from extraordinary circumstances. For claims arising from an emergency evacuation or from extraordinary circumstances, the maximum allowable is $100,000.

4. Delegation of Authority. The Solicitor of Labor is hereby authorized to exercise, execute, and perform all powers, authority, and functions conferred on the Secretary of Labor under the statutes referred to above, including the preparation and promulgation of regulations governing the processing of claims filed under such statutes.

5. Redelegation of Authority. The authority and responsibility herein delegated to the Solicitor of Labor may be redelegated. See generally 29 CFR Part 15.

6. Reservation of Authority. The following functions are reserved to the Secretary:

A. No delegation of authority or assignment of responsibility under this Order will be deemed to affect the Secretary's authority to continue to exercise or further delegate such authority or responsibility.

B. The submission of reports and recommendations to the President and Congress concerning the administration of the statutory provisions and executive orders listed above is reserved to the Secretary.

7. Effective Date. This Order will be effective when signed.

Dated: December 19, 2005.
Elaine L. Chao,
Secretary of Labor.

[FR Doc. 05-24590 Filed 12-28-05; 8:45 am]

BILLING CODE 4510-23-P